DEPARTMENT OF HEALTH AND HUMAN SERVICES

Food and Drug Administration

[Docket No. FDA-2015-N-0001]

Announcement of Food and Drug Administration Demo Day for the 2014 Food and Drug Administration Food Safety Challenge; Public Meeting

AGENCY: Food and Drug Administration, HHS.

ACTION: Notice of public meeting.

SUMMARY: The Food and Drug Administration (FDA or we) is announcing a public meeting entitled “Demo Day for the 2014 FDA Food Safety Challenge.” The 2014 FDA Food Safety Challenge (http://www.foodsafetychallenge.com) is a prize competition under the America COMPETES Reauthorization Act of 2010 which granted us (and other federal Agencies) broad authority to conduct prize competitions to spur innovation, solve tough problems, and advance our core mission. The purpose of the public meeting is for each of the five challenge finalists to present their concepts to the judges for selection of one or more winners.

DATES: The public meeting will be held on July 7, 2015, from 1 p.m. to 5 p.m.

ADDRESSES: The public meeting will be held at the Center for Food Safety and Applied Nutrition, 5100 Paint Branch Pkwy., Wiley Building Auditorium (Rm. 1A003-AR), College Park, MD 20740. Parking is extremely limited, so we encourage public meeting participants to use public transportation (Metro: College Park-U of MD station on the Green Line). Entrance for the public meeting participants (non-FDA employees) is through the main entrance of the Wiley Building where routine security check procedures will be performed.

FOR FURTHER INFORMATION CONTACT: Chad P. Nelson, Office of Foods and Veterinary Medicine, Food and Drug Administration, 10903 New Hampshire Ave., Silver Spring, MD 20993, 301-796-4643, FAX: 301-847-3534, email: chad.nelson@fda.hhs.gov.

SUPPLEMENTARY INFORMATION:

I. Background

The 2014 FDA Food Safety Challenge is a prize competition under the America COMPETES Reauthorization Act of 2010 (Pub. L. 111-358) which granted us (and other federal Agencies) broad authority to conduct prize competitions to spur innovation, solve tough problems, and advance our core mission. In the 2014 FDA Food Safety Challenge, we asked for potential breakthrough ideas on how to find disease-causing organisms—especially Salmonella—in food. We encouraged food safety experts, such as scientists, academics, entrepreneurs, and innovators, to participate in the challenge and to develop concepts specifically to address the detection of Salmonella in minimally processed fresh produce and the ability of a solution to address testing for other microbial pathogens and in other foods. The panel of food safety and pathogen detection experts from FDA, the Centers for Disease Control and Prevention, and the U.S. Department of Agriculture will judge the finalists' concepts and select a winner or winners.

II. Registration and Webcast Information

If you are interested in attending the meeting, submit your online registration information (including name, title, firm name, address, telephone number, and email) by June 29, 2015 at: http://www.foodsafetychallenge.com/demoday/. There is no registration fee for the public meeting. Early registration is recommended because seating is limited. There will be no onsite registration.

If you need special accommodations due to disability, please contact Chad Nelson (see Contact Person) at least 7 days in advance.

For those who are unable to attend in person, the public meeting will also be Webcast. Information about how to register to view the live Webcast of this meeting will be provided on the Challenge Web site at http://foodsafetychallenge.com/demoday/.

Dated: June 16, 2015.
Leslie Kux,
Associate Commissioner for Policy.

[FR Doc. 2015-15124 Filed 6-18-15; 8:45 am]

BILLING CODE 4164-01-P